DEPARTMENT OF TRANSPORTATION

Coast Guard

33 CFR Part 165

[COTP Western Alaska 00-002]

RIN 2115-AA97

Safety Zone; Port Graham, Cook Inlet, AK

AGENCY: Coast Guard, DOT,

ACTION: Temporary final rule.

SUMMARY: The Coast Guard is establishing a temporary 600-yard radius safety zone Port Graham, Cook Inlet, Alaska. The Heavy-lift vessel SWAN will anchor in this position and off-load equipment for the Exploratory Drilling Structure ‘OSPREY’. This safety zone is implemented to ensure the safe and timely anchoring, loading, and departure of vessels and a barge operating in Port Graham, Cook Inlet, Alaska.

DATES: This temporary final rule is effective from 12:01 a.m. on June 12, 2000, until 11:59 p.m. on June 16, 2000.

FOR FURTHER INFORMATION CONTACT: Lieutenant Commander Rick Rodriguez, Chief of Port Operations, USCG Marine Safety Office, Anchorage, at (907) 271-6724.

SUPPLEMENTARY INFORMATION:

Regulatory Information

We did not publish a notice of proposed rulemaking (NPRM) for this regulation. Under 5 U.S.C. 553 (b) (B), the Coast Guard finds that good cause exists for not publishing an NPRM. Publishing an NPRM and delaying the effective date would be contrary to national safety interests since immediate action is needed to minimize potential danger to the public. The OSPREY platform is a large structure that is difficult to maneuver, and will be towed in the strong currents of Cook Inlet, Alaska. Publishing an NPRM and delaying the effective date of the regulation would be contrary to the public interest, because immediate action is necessary to protect participants and other vessel traffic from the potential hazards associated with the operation.

Background and Purpose

The Coast Guard is establishing a temporary 600-yard radius safety zone on the navigable waters of the United States around latitude 59°21′36″ N, longitude 151°50′40″ W (NAD 1983). The Heavy-lift vessel SWAN will anchor in this position and off-load the tower, tower legs, and associated equipment for the Exploratory Drilling Structure ‘OSPREY’ in Port Graham, Cook Inlet, Alaska. The safety zone is designed to permit the safe and timely anchoring, off-loading, and departure of this vessel in the narrow timeframe in which this can be safely done. The safety zone's 600-yard standoff also aids the safety of these evolutions by minimizing conflicts and hazards that might otherwise occur with other transiting vessels. The limited size of the zone is designed to minimize impact on other mariners transiting through the area.

Regulatory Evaluation

This rule is not a significant regulatory action under section 3(f) of Executive Order 12866 and does not require an assessment of potential cost and benefits under section 6(a)(3) of that order. It has not been reviewed by the Office of Management and Budget under that order. It is not significant under the regulatory policies and procedures of the Department of Transportation (DOT) (44 FR 11040; February 26, 1979). The Coast Guard expects the economic impact of this proposal to be so minimal that a full Regulatory Evaluation under paragraph 10(e) of the regulatory policies and procedures of DOT is unnecessary.

Small Entities

Under the Regulatory Flexibility Act (5 U.S.C. 601 et seq.), the Coast Guard considers whether this rule will have significant economic impacts on a substantial number of small entities. “Small entities” include small businesses, not-for-profit organizations that are independently owned and operated and are not dominant in their fields, and governmental jurisdictions with populations less than 50,000. Because this safety zone is very small, will only be in effect for five days, and does not impede access to other maritime facilities in the area, the Coast Guard believes there will be no impact to small entities. Therefore, the Coast Guard certifies under 5 U.S.C. § 605(b) that this rule will not have a significant economic impact on a substantial number of small entities.

Collection of Information

This rule does not provide for a collection of information under the Paperwork Reduction Act of 1995 (44 U.S.C. 3501 et seq.).

Federalism

The Coast Guard has analyzed this rule under the principles and criteria contained in Executive Order 13132 and has determined that this rule does not have implications for federalism under that Order.

Environment

The Coast Guard considered the environmental impact of this rule and concluded that, under Figure 2-1, paragraph 34(g) of Commandant Instruction M16475.1C, this rule is categorically excluded from further environmental documentation because it establishes a safety zone.

Unfunded Mandates

The Unfunded Mandates Reform Act of 1995 (2 U.S.C. 1531-1538) and E.O. 12875, Enhancing the Intergovernmental Partnership, (58 FR 58093; October 28, 1993) govern the issuance of Federal regulations that require unfunded mandates. An unfunded mandate is a regulation that requires a State, local, or tribal government or the private sector to incur direct costs without the Federal Government's having first provided the funds to pay those costs. This rule will not impose an unfunded mandate.

List of Subjects in 33 CFR Part 165

Harbors, Marine safety, Navigation (water), Reporting and record keeping requirements, Security measures, Waterways.

Temporary Final Regulation

For the reasons discussed in the preamble, the Coast Guard amends 33 CFR Part 165 as follows:

PART 165—[AMENDED]

1. The authority citation for Part 165 continues to read as follows:

Authority: 33 U.S.C. 1231; 50 U.S.C. 191; 33 CFR 1.05-1(g), 6.04-1, 6.04-6, and 160.5; 49 CFR 1.46.

2. From 12:01 a.m. on June 12, 2000, until 11:59 p.m. on June 16, 2000, § 165.T17-002 is temporarily added to read as follows:

§ 165.T17-002 Safety Zone; Port Graham, Cook Inlet, Alaska.

(a) Description. The following area is a Safety Zone: All navigable waters within a 600-yard radius of the Heavy-lift vessel SWAN, located in Port Graham, Cook Inlet, Alaska.

(b) Effective dates. This section is effective from 12:01 a.m. on June 12, 2000, until 11:59 p.m. on June 16, 2000.

(c) Regulations. (1) The Captain of the Port means the Captain of the Port, Western Alaska. The Captain of the Port may authorize or designate any Coast Guard commissioned, warrant, or petty officer to act on his behalf as his representative.

(2) The general regulations governing safety zones contained in Title 33 Code of Federal Regulations § 165.23 apply. No person or vessel may enter, transit through, anchor or remain in this safety zone, with the exception of attending vessels, without first obtaining permission from the Captain of the Port, Western Alaska, or his representative. The Captain of the Port or his representative may be contacted in the vicinity of the SWAN via marine VHF channel 16. The Captain of the Port's representative can also be contacted by telephone at (907) 271-6700.

Dated: April 14, 2000.
W.J. Hutmacher,
Captain, U.S. Coast Guard, Captain of the Port, Western Alaska.

[FR Doc. 00-12151 Filed 5-12-00; 8:45 am]

BILLING CODE 4910-15-P